DEPARTMENT OF TRANSPORTATION

National Highway Traffic Safety Administration

[Docket No. NHTSA-2020-0095]

Denial of Motor Vehicle Defect Petition

AGENCY: National Highway Traffic Safety Administration (NHTSA), Department of Transportation.

ACTION: Denial of petition for a defect investigation.

SUMMARY: This notice sets forth the reasons for the denial of a petition submitted on April 10, 2020, by Mr. Surjit Singh to NHTSA's Office of Defects Investigation (ODI). The petition requests that the Agency investigate Model Year 2013 Mercedes-Benz E350 vehicles for alleged premature rear brake line corrosion failure. NHTSA opened Defect Petition DP20-004 to evaluate the petitioner's request. After reviewing the information provided by the petitioner and available NHTSA complaint and Early Warning Reporting (EWR) data, NHTSA has concluded that there is insufficient evidence to pursue further action at this time. Accordingly, the Agency has denied the petition.

FOR FURTHER INFORMATION CONTACT: Mr. Frederick LaMance, Vehicle Defects Division—D, Office of Defects Investigation, NHTSA, 1200 New Jersey Ave. SE, Washington, DC 20590 (telephone 202-366-9525).

SUPPLEMENTARY INFORMATION: By letter dated April 10, 2020, Mr. Singh (the petitioner) submitted a petition requesting that the Agency investigate 2013 Mercedes-Benz E350 vehicles for alleged premature rear brake line corrosion failure. Interested persons may petition NHTSA requesting that the Agency initiate an investigation to determine whether a motor vehicle or item of replacement equipment does not comply with an applicable motor vehicle safety standard or contains a defect that relates to motor vehicle safety (49 U.S.C. 30162(a)(2); 49 CFR 552.1). Upon receipt of a properly filed petition, the Agency conducts a technical review of the petition, material submitted with the petition and any additional information (49 CFR 552.6). After conducting the technical review and considering appropriate factors, which may include, but are not limited to, the nature of the complaint, allocation of Agency resources, Agency priorities, the likelihood of uncovering sufficient evidence to establish the existence of a defect, and the likelihood of success in any necessary enforcement litigation, the Agency will grant or deny the petition. See 49 CFR 552.8.

The petitioner alleges that his 2013 Mercedes E350 sedan with approximately 37,000 miles has a safety defect due to rusted brake lines. Mr. Singh stated that his vehicle was inspected by a Mercedes-Benz dealership and received an estimate of $3,300 to repair the rear brake lines. He attached supplemental information including photos of his vehicle's rear brake lines, that had visible corrosion, as well as a service invoice from the brake line repair. He does not allege that his vehicle experienced brake line leakage or any effect on brake system performance before the corrosion concern was detected and repaired in a dealer inspection.

On April 24, 2020, NHTSA's Office of Defects Investigation (ODI) opened Defect Petition DP20-004 to evaluate the petitioner's request. ODI conducted a search for all consumer complaints and Early Warning Reporting (EWR) data related to allegations of brake line corrosion or leakage in 2013 Mercedes-Benz E350 sedans and similarly equipped vehicles. The 2013 E350 is a fourth-generation Mercedes-Benz E-Class vehicle (W212 platform), which was first sold in the United States in 2009 as a 2010 model. Mercedes-Benz has sold approximately 245,000 model year 2010 through 2015 E-Class sedan and wagon vehicles in the United States with the same brake line design as the petitioner's vehicle.

The subject brake lines are routed along the left undercarriage and have a corrosion protection coating system consisting of a base layer of zinc and an outer coating of polyvinyl fluoride. The Mercedes-Benz maintenance plan for the subject vehicles recommends brake line inspection every 12 months or 10,000 miles to detect and repair corrosion damage before it compromises brake circuit integrity. While there is potential for brake line corrosion and leakage in older vehicles operated in States with high road salt use in winter months, the low complaint counts do not provide evidence that such failures are occurring prematurely in the subject platform or that the failures are having an impact on brake system performance.

Specifically, ODI's search for complaints and EWR data in 2013 Mercedes-Benz E350 vehicles found no additional records related to the alleged defect. Expanding the search to all W212 platform vehicles identified just one incident, a complaint alleging unspecified brake line corrosion and leakage in a 2011 Mercedes-Benz E550 (NHTSA ID 10902081). The complaint did not allege that the brake line leakage resulted in reduced brake performance, crash, or injury. The resulting failure rate of 0.4 failures per hundred thousand vehicles is extremely low for a population that includes vehicles that have been in service for over ten years and does not include any allegations of reduced brake performance, crash, or injury. After reviewing the available data and evaluating the safety risk posed by the condition specified in the petition, ODI has not identified evidence of a defect trend in the subject E-Class vehicles that would support opening a defect investigation into premature brake line corrosion failure.

Additionally, the brake system of the subject vehicles is a dual-circuit hydraulic system split front-to-rear. Brake line leakage resulting from undetected/unrepaired corrosion damage is not expected to result in diminished brake performance at the onset of a slow leak condition. Undetected brake fluid loss would first lead to brake warning lamp illumination from low brake fluid reservoir level. Continued operation with brake warning lamp illuminated could result in loss of rear brake function should the fluid loss continue until the rear circuit reservoir is empty.¹ The subject vehicles would retain most of their braking capacity even after loss of the rear circuit, as the front circuit provides approximately 70 percent of the stopping force in the split front-to-rear design.

¹ Rear circuit loss may occur more rapidly if corrosion damage results in a more significant brake line rupture.

After reviewing the available data and evaluating the safety risk posed by the condition cited in the petition, ODI has not identified evidence of a defect trend in the subject E-Class vehicles that would support opening a defect investigation into premature brake line corrosion failure. NHTSA is authorized to issue an order requiring notification and remedy of a defect if the Agency's investigation shows a defect in design, construction, or performance of a motor vehicle that presents an unreasonable risk to safety. 49 U.S.C. 30102(a)(9), 30118. Since the information currently before the Agency is not indicative of a defect trend, it is unlikely that any investigation opened after granting this petition would result in an order concerning the notification and remedy of a safety-related defect. Therefore, upon full consideration of the information presented in the petition and the potential risks to safety, the petition is denied. The denial of this petition does not foreclose the Agency from taking further action if warranted, or lessen the potential for a future finding that a safety-related defect exists based upon additional information the Agency may receive.

Authority: 49 U.S.C. 30162(d); delegations of authority at CFR 1.95 and 501.8.

Jeffrey Mark Giuseppe,
Associate Administrator for Enforcement.

[FR Doc. 2020-22674 Filed 10-13-20; 8:45 am]

BILLING CODE 4910-59-P